DEPARTMENT OF THE INTERIOR

Fish and Wildlife Service

50 CFR Part 20

RIN 1018-AV12

Migratory Bird Hunting; Migratory Bird Hunting Regulations on Certain Federal Indian Reservations and Ceded Lands for the 2007-08 Early and Late Seasons

AGENCY: Fish and Wildlife Service, Interior.

ACTION: Final rule.

SUMMARY: This rule prescribes special early and late season migratory bird hunting regulations for certain tribes on Federal Indian reservations, off-reservation trust lands, and ceded lands. This responds to tribal requests for U.S. Fish and Wildlife Service (hereinafter Service or we) recognition of their authority to regulate hunting under established guidelines. This rule allows the establishment of season bag limits and, thus, harvest at levels compatible with populations and habitat conditions.

DATES: This rule takes effect on October 15, 2007.

ADDRESSES: You may inspect comments received on the proposed special hunting regulations and tribal proposals during normal business hours in room 4107, Arlington Square Building, 4501 N. Fairfax Drive, Arlington, Virginia.

FOR FURTHER INFORMATION CONTACT: Ron W. Kokel, Division of Migratory Bird Management, U.S. Fish and Wildlife Service, 703/358-1967.

SUPPLEMENTARY INFORMATION: The Migratory Bird Treaty Act (MBTA) of July 3, 1918 (40 Stat. 755; 16 U.S.C. 703 et seq.), authorizes and directs the Secretary of the Department of the Interior, having due regard for the zones of temperature and for the distribution, abundance, economic value, breeding habits, and times and lines of flight of migratory game birds, to determine when, to what extent, and by what means such birds or any part, nest, or egg thereof may be taken, hunted, captured, killed, possessed, sold, purchased, shipped, carried, exported, or transported.

In the August 31, 2007, Federal Register (72 FR 50596), we proposed special migratory bird hunting regulations for the 2007-08 hunting season for certain Indian tribes, under the guidelines described in the June 4, 1985, Federal Register (50 FR 23467). The guidelines respond to tribal requests for Service recognition of their reserved hunting rights, and for some tribes, recognition of their authority to regulate hunting by both tribal members and nonmembers on their reservations. The guidelines include possibilities for:

(1) On-reservation hunting by both tribal members and nonmembers, with hunting by nontribal members on some reservations to take place within Federal frameworks but on dates different from those selected by the surrounding State(s);

(2) On-reservation hunting by tribal members only, outside of usual Federal frameworks for season dates and length, and for daily bag and possession limits; and

(3) Off-reservation hunting by tribal members on ceded lands, outside of usual framework dates and season length, with some added flexibility in daily bag and possession limits. In all cases, the regulations established under the guidelines must be consistent with the March 10-September 1 closed season mandated by the 1916 Migratory Bird Treaty with Canada.

In the April 11, 2007, Federal Register (72 FR 18328), we requested that tribes desiring special hunting regulations in the 2007-08 hunting season submit a proposal including details on:

(a) Harvest anticipated under the requested regulations;

(b) Methods that would be employed to measure or monitor harvest (such as bag checks, mail questionnaires, etc.);

(c) Steps that would be taken to limit level of harvest, where it could be shown that failure to limit such harvest would adversely impact the migratory bird resource; and

(d) Tribal capabilities to establish and enforce migratory bird hunting regulations.

No action is required if a tribe wishes to observe the hunting regulations established by the State(s) in which an Indian reservation is located. We have successfully used the guidelines since the 1985-86 hunting season. We finalized the guidelines beginning with the 1988-89 hunting season (August 18, 1988, Federal Register [53 FR 31612]).

The proposed rule included generalized regulations for both early- and late-season hunting, and this rulemaking addresses both the early- and late-season proposals. As a general rule, early seasons begin during September each year and have a primary emphasis on such species as mourning and white-winged doves. Late seasons begin about September 23 or later each year and have a primary emphasis on waterfowl.

Status of Populations

In the August 31 proposed rule, we reviewed the status for various populations for which seasons were proposed. This information included brief summaries of the May Breeding Waterfowl and Habitat Survey, population status reports for sandhill cranes, woodcock, mourning doves, white-winged doves, white-tipped doves, and band-tailed pigeons, and the status and harvest of waterfowl. The tribal seasons established below are commensurate with the population status.

Comments and Issues Concerning Tribal Proposals

For the 2007-08 migratory bird hunting season, we proposed regulations for 28 tribes and/or Indian groups that followed the 1985 guidelines and were considered appropriate for final rulemaking. Some of the proposals submitted by the tribes had both early- and late-season elements. The comment period for the proposed rule, published on August 31, 2007, closed on September 10, 2007.

Great Lakes Indian Fish and Wildlife Commission's (GLIFWC) Proposal

We received one comment in response to our April 11, 2007, notice of intent announcing regulations for migratory bird hunting by Native American GLIFWC's Tribal members, and we received one comment in response to our August 31, 2007, proposed rule. The Wisconsin Department of Natural Resources (WDNR) had biological and law enforcement concerns regarding the GLIFWC's proposal that requested: (1) Increased bag limits for most species (from 20 to 40 birds per day); (2) removal of species restrictions on bag limits for duck harvest and extension of hunting hours; and (3) increased duck hunting season dates beginning September 1. WDNR commented that these proposed changes could increase harvest, which would create a conservation concern to locally breeding duck populations. WDNR also believed that the removal of species restrictions and extension of hunting hours would be inconsistent with the Service's basic management philosophy on ducks. WDNR's law enforcement personnel also expressed concern over the extended shooting hours and the potential for confusion and conflict with different waterfowl shooting hours among Tribal and non-Tribal hunters on the same lands and waters.

GLIFWC's comment responded to our August 31, 2007, proposed rule. GLIFWC requested removal of the Service's proposed bag limit restrictions on scaup and wood ducks. GLIFWC also noted that they were committed to appropriate harvest monitoring.

Service Response: As we stated in the August 31, 2007, proposed rule, while we acknowledge that tribal harvest and participation has declined in recent years, we do not believe that GLIFWC's proposal for tribal waterfowl seasons on ceded lands in Wisconsin, Michigan, and Minnesota for the 2007-08 season is the best plan for increasing tribal participation. However, we do approve an increased bag limit for ducks in the 1836 Treaty Area; increased bag limits for geese in the 1836, 1837, and 1842 Treaty Areas; lengthened season dates for all species except mourning doves and woodcock, from December 1-December 31; and extended hunting hours until 15 minutes after sunset. In addition, we will implement a pilot bag limit increase for ducks in the 1837 and 1842 Treaty Areas. More specific discussion follows below.

Overall Daily Bag Limit for Waterfowl

Based on the increased bag limits, GLIFWC is estimating a relatively small additional duck harvest (1000 to 1500). However, it is possible that hunter participation could increase beyond their estimates and could result in a conservation impact, particularly on locally breeding populations, such as wood ducks and mallards. Further, based on the GLIFWC's own harvest data, present daily bag limits do not appear to be a hindrance or limiting factor for Tribal harvest, and increasing the daily bag limit to 40 ducks would be far in excess (more than double) of anything we currently have experience with regarding tribal migratory bird hunting regulations. Until we have additional information on which we could assess potential impacts, we do not favor increasing daily bag limits for ducks to the extent GLIFWC has proposed. In an effort to obtain the necessary information, we will implement a pilot expansion of the daily bag limit to 30 birds per day in the 1837 and 1842 Treaty Areas. We support this with the understanding that we will need to closely monitor tribal harvest through either GLIFWC's own increased harvest surveys or GLIFWC's assisting the Service to survey tribal hunters.

We do support the increase of the daily bag limits for ducks in the 1836 Treaty Area to bring them more in line with our allowed GLIFWC daily bag limits for ducks in the 1837 and 1842 Treaty Areas. Further, we also support increasing the daily bag limits for geese in the 1837, 1842, and 1836 Treaty Areas. Given the limited goose harvest and the Flyway-wide effort to increase the harvest of resident Canada geese, we see no potential conservation impacts.

Removal of Species Restrictions

We have several concerns with GLIFWC's proposal to remove all species restrictions within the overall duck daily bag limits in the 1837, 1842, and 1836 Treaty Areas. We have a number of duck species that are showing long-term downward population trends (pintails and black ducks), and others for which an increased daily bag limit of 30 birds per day could potentially have conservation impacts (canvasbacks), particularly on locally breeding ducks (mallards). Overharvest of these species in localized areas due to removal of species restrictions could contribute to long-term declines. Removal of species restrictions on these species would be inconsistent with our current conservation concerns. Thus, we support the following species restrictions within the overall daily bag limit in all three of the Treaty Areas: 10 mallards (only 5 of which may be hens), 5 black ducks, 5 pintails, and 5 canvasbacks. We believe these species restrictions are commensurate with each individual species' population status.

In the August 31 proposed rule, we also proposed additional daily bag limit restrictions for scaup and wood ducks (a daily bag limit of 5 for each). We proposed these particular restrictions on these species primarily because scaup have experienced a long-term population decline and wood ducks might be susceptible to local over-harvest. However, GLIFWC notes that neither of these species have had a within bag limit species restriction in the past and that were committed to appropriate harvest monitoring (with the understanding that this monitoring would be sufficient to identify any localized population impacts). We agree with GLIFWC and will work with them to closely monitor tribal harvest through either GLIFWC's own increased harvest surveys or GLIFWC's assisting the Service to survey tribal hunters.

Expanded Season Dates

Generally, we have tried to limit the opening date of tribal duck seasons to around September 15 for a number of reasons. Foremost among those reasons is that opening the tribal season 2-3 weeks ahead of a State's normal season has the potential to impact locally breeding ducks. In the 1836, 1837 and 1842 Treaty Areas, we believe mallards and wood ducks would be the most susceptible to potential impacts of early September hunting. Birds are naïve to the gun at this time prior to the opening of the general gun season and that could increase the potential for large harvests of resident breeding birds. Thus, we believe that expanding early September duck hunting in the 1836, 1837 and 1842 Treaty Areas would not be in the best interest of the resource. However, we have less concern about allowing the extension on the end of the season for the month of December and support this portion of GLIFWC's proposal. In most instances, many waterfowl will have already migrated.

Expanded Shooting Hours

Normally, shooting hours for migratory game birds are one-half hour before sunrise to sunset. A number of reasons and concerns have been cited for extending shooting hours past sunset. Potential impacts to some locally breeding populations (e.g., wood ducks), hunter safety, difficulty of identifying birds, retrieval of downed birds, and impacts on law enforcement are some of the normal concerns raised when discussing potential expansions of shooting hours. However, despite these concerns, we support the expansion of shooting hours by 15 minutes after sunset in the 1837, 1842, and 1836 Treaty Areas. We have previously supported this in other tribal areas and have not been made aware of any wide-scale problems. Further, we believe the continuation of a specific species restriction within the daily bag limit for mallards, and the implementation of a species restriction within the daily bag limit for wood ducks, will allay potential conservation concerns for these species. We realize that, when implemented with all the other proposed changes in GLIFWC's tribal seasons, the extension of shooting hours could have conservation impacts. Thus, we are supporting this proposal with the understanding that we will need to closely monitor tribal harvest through either GLIFWC's own increased harvest surveys or GLIFWC's assisting the Service to survey tribal hunters.

As we stated last year (71 FR 55076, September 20, 2006), we are willing to meet with the GLIFWC to explore possible ways to increase tribal participation in migratory bird hunting opportunities. Further, we appreciate the opportunity we had to meet with the Tribes last winter to discuss the mutual concerns we have for the migratory bird resource and future hunting opportunities. We note that GLIFWC's proposal this year clearly responds to some of the important concerns we expressed at that time and we look forward to continuing our dialogue in the future.

Yankton Sioux Tribe's Proposal

We received one comment in response to our August 31, 2007, proposed rule. The State of South Dakota objects to the proposed special hunting regulations for the Yankton Sioux Tribe. South Dakota believes that the regulations are flawed because (1) they incorrectly assume the existence of reservation boundaries, and specifically assume the continued existence of the 1858 Reservation boundaries for a Yankton Sioux “Reservation” and (2) they incorrectly assume that merely placing land into trust makes it “Indian country.”

Service Response: The State's reading of our proposal is incorrect. Nothing in the Federal Register language refers to the 1858 boundaries. Our action does not recognize (nor could it) any particular boundary or the inclusion or exclusion of lands within the Yankton Sioux reservation or as “Indian country.” This action only codifies the migratory bird hunting rules of the Yankton Sioux Tribe that will apply on whatever lands are under its jurisdiction.

NEPA Consideration

NEPA considerations are covered by the programmatic document “Final Supplemental Environmental Impact Statement: Issuance of Annual Regulations Permitting the Sport Hunting of Migratory Birds (FSES 88-14),” filed with the Environmental Protection Agency on June 9, 1988. We published a notice of availability in the Federal Register on June 16, 1988 (53 FR 22582). We published our Record of Decision on August 18, 1988 (53 FR 31341). In addition, an August 1985 environmental assessment entitled “Guidelines for Migratory Bird Hunting Regulations on Federal Indian Reservations and Ceded Lands” is available (see ADDRESSES).

Annual NEPA considerations are covered under a separate Environmental Assessment (EA), “Duck Hunting Regulations for 2007-08,” and an August 27, 2007, Finding of No Significant Impact (FONSI). Copies of the EA and FONSI are available upon request from the address indicated under ADDRESSES.

In a notice published in the September 8, 2005, Federal Register (70 FR 53376), we announced our intent to develop a new Supplemental Environmental Impact Statement for the migratory bird hunting program. Public scoping meetings were held in the spring of 2006, as we announced in a March 9, 2006, Federal Register notice (71 FR 12216). A scoping report summarizing the scoping comments and scoping meetings is available either at the address indicated under ADDRESSES or on our Web site at http://www.fws.gov/migratorybirds.

Endangered Species Act Consideration

Section 7 of the Endangered Species Act, as amended (16 U.S.C. 1531-1543; 87 Stat. 884), provides that, “The Secretary shall review other programs administered by him and utilize such programs in furtherance of the purposes of this Act” (and) shall “insure that any action authorized, funded, or carried out * * * is not likely to jeopardize the continued existence of any endangered species or threatened species or result in the destruction or adverse modification of [critical] habitat * * *.” Consequently, we conducted formal consultations to ensure that actions resulting from these regulations would not likely jeopardize the continued existence of endangered or threatened species or result in the destruction or adverse modification of their critical habitat. Findings from these consultations are included in a biological opinion, which concluded that the regulations are not likely to adversely affect any endangered or threatened species. Additionally, these findings may have caused modification of some regulatory measures previously proposed, and the final regulations reflect any such modifications. Our biological opinions resulting from this section 7 consultation are public documents available for public inspection at the address indicated under ADDRESSES.

Executive Order 12866

The migratory bird hunting regulations are economically significant and were reviewed by the Office of Management and Budget (OMB) under Executive Order 12866. As such, a cost/benefit analysis was initially prepared in 1981. This analysis was subsequently revised annually from 1990-96, updated in 1998, and updated again in 2004. It is further discussed below under the heading Regulatory Flexibility Act. Results from the 2004 analysis indicate that the expected welfare benefit of the annual migratory bird hunting frameworks is on the order of $734 million to $1.064 billion, with a mid-point estimate of $899 million. Copies of the cost/benefit analysis are available upon request from the address indicated under ADDRESSES or from our Web site at http://www.fws.gov/migratorybirds/reports/SpecialTopics/EconomicAnalysis-Final-2004.pdf.

This year, due to limited data availability, we partially updated the 2004 analysis, but restricted our analysis to duck hunting. Results indicate that the total consumer surplus of the annual duck hunting frameworks is on the order of $222 to $360 million, with a mid-point estimate of $291 million. We plan to perform a full update of the analysis in 2008. Copies of the updated analysis are available upon request from the address indicated under ADDRESSES or from our Web site at http://www.fws.gov/migratorybirds/reports/SpecialTopics/EconomicAnalysis-2007Update.pdf.

Regulatory Flexibility Act

These regulations have a significant economic impact on substantial numbers of small entities under the Regulatory Flexibility Act (5 U.S.C. 601 et seq.). We analyzed the economic impacts of the annual hunting regulations on small business entities in detail as part of the 1981 cost-benefit analysis discussed under Executive Order 12866. This analysis was revised annually from 1990-95. In 1995, the Service issued a Small Entity Flexibility Analysis (Analysis), which was subsequently updated in 1996, 1998, and 2004. The primary source of information about hunter expenditures for migratory game bird hunting is the National Hunting and Fishing Survey, which is conducted at 5-year intervals. The 2004 Analysis was based on the 2001 National Hunting and Fishing Survey and the U.S. Department of Commerce's County Business Patterns, from which it was estimated that migratory bird hunters would spend between $481 million and $1.2 billion at small businesses in 2004. Copies of the Analysis are available upon request from the address indicated under ADDRESSES or from our Web site at http://www.fws.gov/migratorybirds/reports/SpecialTopics/EconomicAnalysis-Final-2004.pdf.

This year, due to limited data availability, we partially updated the 2004 analysis, but restricted our analysis to duck hunting. Results indicate that the duck hunters would spend between $291 million and $473.5 million at small businesses in 2007. We plan to perform a full update of the analysis in 2008 when the full results from the 2006 National Hunting and Fishing Survey are available. Copies of the updated analysis are available upon request from the address indicated under ADDRESSES or from our Web site at http://www.fws.gov/migratorybirds/reports/SpecialTopics/EconomicAnalysis-2007Update.pdf.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808(1).

Paperwork Reduction Act

We examined these regulations under the Paperwork Reduction Act of 1995 (PRA). There are no new information collections in this rule that would require OMB approval under the PRA. The existing various recordkeeping and reporting requirements imposed under regulations established in 50 CFR part 20, Subpart K, are utilized in the formulation of migratory game bird hunting regulations. Specifically, OMB has approved the information collection requirements of the surveys associated with the Migratory Bird Harvest Information Program and assigned clearance number 1018-0015 (expires 2/29/2008). This information is used to provide a sampling frame for voluntary national surveys to improve our harvest estimates for all migratory game birds in order to better manage these populations. A Federal agency may not conduct or sponsor, and a person is not required to respond to, a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this rule, has determined that this rule will not unduly burden the judicial system and that it meets the requirements of sections 3(a) and 3(b)(2) of Executive Order 12988.

Takings Implication Assessment

In accordance with Executive Order 12630, this rule, authorized by the Migratory Bird Treaty Act, does not have significant takings implications and does not affect any constitutionally protected property rights. This rule will not result in the physical occupancy of property, the physical invasion of property, or the regulatory taking of any property. In fact, these rules allow hunters to exercise otherwise unavailable privileges and, therefore, reduce restrictions on the use of private and public property.

Energy Effects—Executive Order 13211

On May 18, 2001, the President issued Executive Order 13211 on regulations that significantly affect energy supply, distribution, and use. Executive Order 13211 requires agencies to prepare Statements of Energy Effects when undertaking certain actions. While this rule is a significant regulatory action under Executive Order 12866, it is not expected to adversely affect energy supplies, distribution, or use. Therefore, this action is not a significant energy action and no Statement of Energy Effects is required.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations.

These rules do not have a substantial direct effect on fiscal capacity, change the roles or responsibilities of Federal or State governments, or intrude on State policy or administration. Therefore, in accordance with Executive Order 13132, these regulations do not have significant federalism effects and do not have sufficient federalism implications to warrant the preparation of a Federalism Assessment.

Government-to-Government Relationship With Tribes

Due to the migratory nature of certain species of birds, the Federal Government has been given responsibility over these species by the Migratory Bird Treaty Act. Thus, in accordance with the President's memorandum of April 29, 1994, “Government-to-Government Relations with Native American Tribal Governments” (59 FR 22951), Executive Order 13175, and 512 DM 2, we have evaluated possible effects on federally recognized Indian tribes and have determined that there are no effects on Indian trust resources. However, by virtue of the tribal proposals process, we have consulted with all the tribes affected by this rule.

List of Subjects in 50 CFR Part 20

Exports, Hunting, Imports, Reporting and recordkeeping requirements, Transportation, Wildlife.

Accordingly, part 20, subchapter B, chapter I of title 50 of the Code of Federal Regulations is amended as follows:

PART 20—[AMENDED]

1. The authority citation for part 20 continues to read as follows:

Authority: 16 U.S.C. 703-712 and 16 U.S.C. 742 a-j, Pub. L. 106-108.

Note: The following hunting regulations provided for by 50 CFR 20.110 will not appear in the Code of Federal Regulations because of their seasonal nature.

2. Section 20.110 is revised to read as follows:

§ 20.110 Seasons, limits, and other regulations for certain Federal Indian reservations, Indian Territory, and ceded lands.

(a) Colorado River Indian Tribes, Parker, Arizona (Tribal Members and Nontribal Hunters).

Doves

Season Dates: Open September 1, through September 15, 2007; then open November 10, through December 24, 2007.

Daily Bag and Possession Limits: For the early season, daily bag limit is 10 mourning or white-winged doves, singly, or in the aggregate. For the late season, the daily bag limit is 10 mourning doves. Possession limits are twice the daily bag limits.

Ducks (including mergansers)

Season Dates: Open October 13, 2007, through January 27, 2008.

Daily Bag and Possession Limits: Seven ducks, including two hen mallards, two redheads, two Mexican ducks, two goldeneye, two cinnamon teal, and three scaup. The seasons on canvasback and pintail are closed. The possession limit is twice the daily bag limit.

Coots and Common Moorhens

Season Dates: Same as ducks.

Daily Bag and Possession Limits: 25 coots and common moorhens, singly or in the aggregate.

Geese

Season Dates: Open October 20, 2007, through January 27, 2008.

Daily Bag and Possession Limits: Three geese, including no more than three dark (Canada) geese and three white (snow, blue, Ross's) geese. The possession limit is six dark geese and six white geese.

General Conditions: All persons 14 years and older must be in possession of a valid Colorado River Indian Reservation hunting permit before taking any wildlife on tribal lands. Any person transporting game birds off the Colorado River Indian Reservation must have a valid transport declaration form. Shooting hours are one-half hour before sunrise to sunset for all hunts except early season Dove which is one-half hour before sunrise to noon. Other tribal regulations apply, and may be obtained at the Fish and Game Office in Parker, Arizona.

(b) Confederated Salish and Kootenai Tribes, Flathead Indian Reservation, Pablo, Montana (Tribal Hunters).

Tribal Members Only

Ducks (including mergansers)

Season Dates: Open September 2, 2007, through March 9, 2008.

Daily Bag and Possession Limits: The Tribe does not have specific bag and possession restrictions for Tribal members. The season on harlequin duck is closed.

Coots

Season Dates: Same as ducks.

Daily Bag and Possession Limits: Same as ducks.

Geese

Season Dates: Same as ducks.

Daily Bag and Possession Limits: Same as ducks.

Nontribal Hunters

Ducks (including mergansers)

Season Dates: Open September 30, 2007, through January 12, 2008.

Daily Bag and Possession Limits: Seven ducks, including no more than two hen mallards, one pintail, two canvasback, three scaup, and two redheads. The possession limit is twice the daily bag limit.

Coots

Season Dates: Same as ducks.

Daily Bag and Possession Limits: The daily bag and possession limit is 25.

Geese

Dark Geese

Season Dates: Open September 30, 2007, through January 12, 2008.

Daily Bag and Possession Limits: Four and eight geese, respectively.

Light Geese

Season Dates: Open September 30, 2007, through January 12, 2008.

Daily Bag and Possession Limits: Three and six geese, respectively.

General Conditions: Tribal and Nontribal hunters must comply with all basic Federal migratory bird hunting regulations contained in 50 CFR part 20 regarding manner of taking. In addition, shooting hours are sunrise to sunset, and each waterfowl hunter 16 years of age or older must carry on his/her person a valid Migratory Bird Hunting and Conservation Stamp (Duck Stamp) signed in ink across the stamp face. Special regulations established by the Confederated Salish and Kootenai Tribes also apply on the reservation.

(c) Crow Creek Sioux Tribe, Crow Creek Indian Reservation, Fort Thompson, South Dakota (Tribal Members and Nontribal Hunters).

Sandhill Cranes

Season Dates: Open September 11, through October 17, 2007.

Daily Bag Limit: Three sandhill cranes.

Permits: Each person participating in the sandhill crane season must have a valid Federal sandhill crane hunting permit in his or her possession while hunting.

Ducks

Season Dates: Open October 2, through December 14, 2007.

Daily Bag and Possession Limits: The daily bag limit is 5 ducks, with species and sex restrictions as follows: 2 scaup, 2 redheads, and 2 wood ducks, and only 1 duck from the following group—hen mallard, mottled duck, pintail, canvasback. The possession limit is twice the daily bag limit.

Mergansers

Season Dates: Same as ducks.

Daily Bag and Possession Limits: Five mergansers, including no more than one hooded merganser. The possession limit is twice the daily bag limit.

Canada Geese

Season Dates: Open October 16, 2007, through January 18, 2008.

Daily Bag and Possession Limits: Three and six, respectively.

White-fronted Geese

Season Dates: Open September 25, through December 19, 2007.

Daily Bag and Possession Limits: Two and four, respectively.

Light Geese

Season Dates: Open February 10, 2008, through March 10, 2008.

Daily Bag and Possession Limits: 20 geese daily, no possession limit.

General Conditions: The possession limit is twice the daily bag limit. Tribal and nontribal hunters must comply with basic Federal migratory bird hunting regulations in 50 CFR part 20 regarding shooting hours and manner of taking. In addition, each waterfowl hunter 16 years of age or over must carry on his/her person a valid Migratory Bird Hunting and Conservation Stamp (Duck Stamp) signed in ink across the stamp face. Special regulations established by the Crow Creek Sioux Tribe also apply on the reservation.

(d) Fond du Lac Band of Lake Superior Chippewa Indians, Cloquet, Minnesota (Tribal Members Only).

All seasons in Minnesota, 1854 and 1837 Treaty Zones:

Doves

Season Dates: Open September 1, through October 30, 2007.

Daily Bag Limit: 30 doves.

Ducks and Mergansers

Season Dates: Open September 15, through December 2, 2007.

Daily Bag Limit for Ducks: 12 ducks, including no more than 12 mallards (only 3 of which may be hens), 3 black ducks, 6 scaup, 6 wood ducks, 6 redheads, 3 pintails and 3 canvasbacks.

Daily Bag Limit for Mergansers: 15 mergansers, including no more than 6 hooded mergansers.

Canada Geese

Season Dates: Open September 1, through December 2, 2007.

Daily Bag Limit: 12 geese.

Coots and Common Moorhens (Gallinule)

Season Dates: Open September 15, through December 2, 2007.

Daily Bag Limit: 20 coots and common moorhens, singly or in the aggregate.

Sora and Virginia Rails

Season Dates: Open September 1, through December 2, 2007.

Daily Bag Limit: 25 sora and Virginia rails, singly or in the aggregate. There is no possession limit.

Common Snipe and Woodcock

Season Dates: Open September 1, through December 2, 2007.

Daily Bag Limit: Eight snipe and three woodcock.

General Conditions:

1. While hunting waterfowl, a tribal member must carry on his/her person a valid tribal waterfowl hunting permit.

2. Except as otherwise noted, tribal members will be required to comply with tribal codes that will be no less restrictive than the provisions of Chapter 10 of the Model Off-Reservation Code. Except as modified by the Service rules adopted in response to this proposal, these amended regulations parallel Federal requirements in 50 CFR part 20 as to hunting methods, transportation, sale, exportation, and other conditions generally applicable to migratory bird hunting.

3. Band members in each zone will comply with State regulations providing for closed and restricted waterfowl hunting areas.

4. There are no possession limits on any species, unless otherwise noted above. For purposes of enforcing bag and possession limits, all migratory birds in the possession or custody of band members on ceded lands will be considered to have been taken on those lands unless tagged by a tribal or State conservation warden as having been taken on-reservation. All migratory birds that fall on reservation lands will not count as part of any off-reservation bag or possession limit.

(e) Grand Traverse Band of Ottawa and Chippewa Indians, Suttons Bay, Michigan (Tribal Members Only).

All seasons in Michigan, 1836 Treaty Zone:

Ducks

Season Dates: Open September 22, 2007, through January 21, 2008.

Daily Bag Limit: 12 ducks, which may include no more than 2 pintail, 2 canvasback, 3 black ducks, 1 hooded merganser, 3 wood ducks, 3 redheads, and 6 mallards (only 3 of which may be hens).

Canada and Snow Geese

Season Dates: Open September 1, through November 30, and open January 1, 2008, through February 8, 2008.

Daily Bag Limit: Five geese.

Other Geese (white-fronted geese and brant)

Season Dates: Open September 20, through November 30, 2007.

Daily Bag Limit: Five geese.

Sora Rails, Common Snipe, and Woodcock

Season Dates: Open September 1, through November 14, 2007.

Daily Bag Limit: 10 rails, 10 snipe, and 5 woodcock.

Mourning Doves

Season Dates: Open September 1, through November 14, 2007.

Daily Bag Limit: 10 mourning doves.

General Conditions: A valid Grand Traverse Band Tribal license is required and must be in possession before taking any wildlife. All other basic regulations contained in 50 CFR part 20 are valid. Other tribal regulations apply, and may be obtained at the tribal office in Suttons Bay, Michigan.

(f) Great Lakes Indian Fish and Wildlife Commission, Odanah, Wisconsin (Tribal Members Only).

Ducks:

A. Wisconsin and Minnesota 1837 and 1842 Treaty Areas:

Season Dates: Begin September 15 and end December 31, 2007.

Daily Bag Limit: 30 ducks, including no more than 10 mallards (only 5 of which may be hens), 5 black ducks, 5 scaup, 5 pintails, 5 wood ducks, and 5 canvasbacks.

B. Michigan 1836 Treaty Area:

Season Dates: Begin September 15 and end December 31, 2007.

Daily Bag Limit: 20 ducks, including no more than 10 mallards (only 5 of which may be hens), 5 black ducks, 5 scaup, 5 pintails, 5 wood ducks, and 5 canvasbacks.

Mergansers: All Ceded Areas:

Season Dates: Begin September 15 and end December 31, 2007.

Daily Bag Limit: 10 mergansers.

Geese: All Ceded Areas:

Season Dates: Begin September 1 and end December 31, 2007. In addition, any portion of the ceded territory that is open to State-licensed hunters for goose hunting after December 1 will also be open concurrently for tribal members.

Daily Bag Limit: 20 geese in aggregate.

Other Migratory Birds:

A. Coots and Common Moorhens (Common Gallinules):

Season Dates: Begin September 1 and end December 31, 2007.

Daily Bag Limit: 20 coots and common moorhens (common gallinules), singly or in the aggregate.

B. Sora and Virginia Rails:

Season Dates: Begin September 1 and end December 31, 2007.

Daily Bag Limit: 20, singly or in the aggregate.

C. Common Snipe:

Season Dates: Begin September 15 and end December 1, 2007.

Daily Bag Limit: 16 common.

D. Woodcock:

Season Dates: Begin September 5 and end December 1, 2007.

Daily Bag Limit: 10 woodcock.

E. Mourning Dove: 1837 and 1842 Ceded Territories.

Season Dates: Begin September 1 and end October 30, 2007.

Daily Bag Limit: 15.

General Conditions

A. All tribal members will be required to obtain a valid tribal waterfowl hunting permit.

B. Except as otherwise noted, tribal members will be required to comply with tribal codes that will be no less restrictive than the model ceded territory conservation codes approved by Federal courts in the Lac Courte Oreilles v. State of Wisconsin (Voigt) and Mille Lacs Band v. State of Minnesota cases. Chapter 10 in each of these model codes regulates ceded territory migratory bird hunting. Both versions of Chapter 10 parallel Federal requirements as to hunting methods, transportation, sale, exportation and other conditions generally applicable to migratory bird hunting. They also automatically incorporate by reference the Federal migratory bird regulations adopted in response to this proposal.

C. Particular regulations of note include:

1. Nontoxic shot will be required for all off-reservation waterfowl hunting by tribal members.

2. Tribal members in each zone will comply with tribal regulations providing for closed and restricted waterfowl hunting areas. These regulations generally incorporate the same restrictions contained in parallel State regulations.

3. Possession limits for each species are double the daily bag limit, except on the opening day of the season, when the possession limit equals the daily bag limit, unless otherwise noted above.

Possession limits are applicable only to transportation and do not include birds that are cleaned, dressed, and at a member's primary residence. For purposes of enforcing bag and possession limits, all migratory birds in the possession and custody of tribal members on ceded lands will be considered to have been taken on those lands unless tagged by a tribal or State conservation warden as taken on reservation lands. All migratory birds that fall on reservation lands will not count as part of any off-reservation bag or possession limit.

4. The baiting restrictions included in the respective sections 10.05(2)(h) of the model ceded territory conservation codes will be amended to include language which parallels that in place for non-tribal members as published at 64 FR 29799, June 3, 1999.

5. The shell limit restrictions included in the respective sections 10.05(2)(b) of the model ceded territory conservation codes will be removed.

6. Hunting hours shall be from a half hour before sunrise to 15 minutes after sunset.

D. Michigan—Duck Blinds and Decoys. Tribal members hunting in Michigan will comply with tribal codes that contain provisions parallel to Michigan law regarding duck blinds and decoys.

(g) Jicarilla Apache Tribe, Jicarilla Indian Reservation, Dulce, New Mexico (Tribal Members and Nontribal Hunters).

Ducks (including mergansers)

Season Dates: Open October 13, through November 30, 2007.

Daily Bag and Possession Limits: The daily bag limit is seven, including no more than two hen mallards, one pintail, one canvasback, two redheads, and three scaup. The possession limit is twice the daily bag limit.

Canada Geese

Season Dates: Open October 13, through November 30, 2007.

Daily Bag and Possession Limits: Two and four, respectively.

General Conditions: Tribal and nontribal hunters must comply with all basic Federal migratory bird hunting regulations in 50 CFR part 20 regarding shooting hours and manner of taking. In addition, each waterfowl hunter 16 years of age or older must carry on his/her person a valid Migratory Bird Hunting and Conservation Stamp (Duck Stamp) signed in ink across the stamp face. Special regulations established by the Jicarilla Tribe also apply on the reservation.

(h) Kalispel Tribe, Kalispel Reservation, Usk, Washington (Tribal Members and Nontribal Hunters).

Nontribal Hunters on Reservation

Ducks

Season Dates: Open September 22, 2007, through January 27, 2008. During this period, days to be hunted are specified by the Kalispel Tribe as weekends, holidays, and for a continuous period in the months of October and November, not to exceed 107 days total. Nontribal hunters should contact the Tribe for more detail on hunting days.

Daily Bag and Possession Limits: seven ducks and mergansers, including no more than two female mallards, one pintail, two canvasbacks, three scaup, and two redheads. The possession limit is twice the daily bag limit.

Geese

Season Dates: Open September 1, through September 16, 2007, for the early-season, and open October 1, 2007, through January 27, 2008, for the late-season. During this period, days to be hunted are specified by the Kalispel Tribe. Nontribal hunters should contact the Tribe for more detail on hunting days.

Daily Bag and Possession Limits: 5 and 10, respectively, for the early season, and 4 light geese and 4 dark geese, for the late season. The daily bag limit is 2 brant and is in addition to dark goose limits for the late-season. The possession limit is twice the daily bag limit.

Tribal Hunters Within Kalispel Ceded Lands

Ducks

Season Dates: Open September 1, 2007, through January 31, 2008.

Daily Bag and Possession Limits: seven ducks and mergansers, including no more than two female mallards, one pintail, two canvasbacks, three scaup, and two redheads. The possession limit is twice the daily bag limit.

Geese

Season Dates: Open September 1, 2007, through January 31, 2008.

Daily Bag Limit: 4 light geese and 4 dark geese. The daily bag limit is 2 brant and is in addition to dark goose limits.

General: Tribal members must possess a validated Migratory Bird Hunting and Conservation Stamp and a tribal ceded lands permit. Hunters must observe all basic Federal migratory bird hunting regulations in 50 CFR part 20.

(i) Klamath Tribe, Chiloquin, Oregon (Tribal Members Only).

Ducks

Season Dates: Open October 1, 2007, through January 28, 2008.

Daily Bag and Possession Limits: 9 and 18 ducks, respectively.

Coots

Season Dates: Same as ducks.

Daily Bag and Possession Limits: 25 coots.

Geese

Season Dates: Same as ducks.

Daily Bag and Possession Limits: 6 and 12 geese, respectively.

General: The Klamath Tribe provides its game management officers, biologists, and wildlife technicians with regulatory enforcement authority, and has a court system with judges that hear cases and set fines. Nontoxic shot is required. Shooting hours are one-half hour before sunrise to one-half hour after sunset.

(j) Leech Lake Band of Ojibwe, Cass Lake, Minnesota (Tribal Members Only).

Ducks

Season Dates: Open September 22, through December 31, 2007.

Daily Bag Limits: 10 ducks.

Geese

Season Dates: Open September 1, through December 31, 2007.

Daily Bag Limits: 10 geese.

General: Possession limits are twice the daily bag limits. Shooting hours are one-half hour before sunrise to one-half hour after sunset. Nontoxic shot is required. Use of live decoys, bait, and commercial use of migratory birds are prohibited. Waterfowl may not be pursued or taken while using motorized craft.

(k) Little River Band of Ottawa Indians, Manistee, Michigan (Tribal Members Only).

Ducks

Season Dates: Open September 15, 2007, through January 20, 2008.

Daily Bag and Possession Limits: 12 ducks, including no more than 2 pintail, 2 canvasback, 1 hooded merganser, 3 black ducks, 3 wood ducks, 3 redheads, and 6 mallards (only 3 of which may be hens). The possession limit is twice the daily bag limit.

Canada Geese

Season Dates: Open September 1, through February 8, 2008.

Daily Bag and Possession Limits: Five Canada geese and possession limit is twice the daily bag limit.

White-fronted Geese, Snow Geese, Ross Geese, and Brant

Season Dates: Open September 20, through November 30, 2007.

Daily Bag and Possession Limits: Five birds and the possession limit is twice the daily bag limit.

Mourning Doves, Rails, Snipe, and Woodcock

Season Dates: Open September 1, through November 14, 2007.

Daily Bag and Possession Limits: 10 doves, 10 rails, 10 snipe, and 5 woodcock. The possession limit is twice the daily bag limit.

General:

A. All tribal members are required to obtain a valid tribal resource card and 2007-08 hunting license.

B. Except as modified by the Service rules adopted in response to this proposal, these amended regulations parallel all Federal regulations contained in 50 CFR part 20.

C. Particular regulations of note include:

(1) Nontoxic shot will be required for all waterfowl hunting by tribal members.

(2) Tribal members in each zone will comply with tribal regulations providing for closed and restricted waterfowl hunting areas. These regulations generally incorporate the same restrictions contained in parallel State regulations.

(3) Possession limits for each species are double the daily bag limit, except on the opening day of the season, when the possession limit equals the daily bag limit, unless otherwise noted above.

D. Tribal members hunting in Michigan will comply with tribal codes that contain provisions parallel to Michigan law regarding duck blinds and decoys.

(l) The Little Traverse Bay Bands of Odawa Indians, Petoskey, Michigan (Tribal Members Only).

Ducks

Season Dates: Open September 15, 2007, through January 20, 2008.

Daily Bag Limits: 12 ducks, including no more than 6 mallards (only 3 of which may be hens), 3 black ducks, 3 redheads, 3 wood ducks, 2 pintail, 1 hooded merganser, and 2 canvasback.

Coots and Gallinules

Season Dates: Same as ducks.

Daily Bag Limits: 12.

Canada Geese

Season Dates: Open September 1, 2007, through February 8, 2008.

Daily Bag Limit: Five geese.

White-fronted Geese, Snow Geese, and Brant

Season Dates: Open September 1, through November 30, 2007.

Daily Bag Limit: 10 of each species.

Sora Rails, Snipe, and Mourning Doves

Season Dates: Open September 1, through November 14, 2007.

Daily Bag Limit: 10 of each species.

Woodcock

Season Dates: Open September 1, through November 14, 2007.

Daily Bag Limit: Five woodcock.

General: Possession limits are twice the daily bag limits. These amended regulations parallel all Federal regulations contained in 50 CFR part 20.

(m) Lower Brule Sioux Tribe, Lower Brule Reservation, Lower Brule, South Dakota (Tribal Members and Nontribal Hunters).

Tribal Members

Ducks, Mergansers and Coots

Season Dates: Open September 22, 2007, through March 10, 2008.

Daily Bag and Possession Limits: Five ducks, including no more than five mallards (only one of which may be a hen), two scaup, one mottled duck, two redheads, two wood ducks, one canvasback, and one pintail. Coot daily bag limit is 15. Merganser daily bag limit is five, including no more than two hooded merganser. The possession limit is twice the daily bag limit.

Canada Geese

Season Dates: Open October 13, 2007, through March 10, 2008.

Daily Bag and Possession Limits: Three and six, respectively.

White-fronted Geese

Season Dates: Open October 6, 2007, through March 10, 2008.

Daily Bag and Possession Limits: Two and four, respectively.

Light Geese

Season Dates: Open October 13, 2007, through March 10, 2008.

Daily Bag and Possession Limits: 20 and 40, respectively.

Nontribal Hunters

Ducks (including mergansers and coots)

Season Dates: Open October 13, 2007, through January 17, 2008.

Daily Bag and Possession Limits: Five ducks, including no more than five mallards (only one of which may be a hen), two scaup, one mottled duck, one canvasback, two redheads, two wood ducks, and one pintail. Coot daily bag limit is 15. Merganser daily bag limit is five, including no more than one hooded merganser. The possession limit is twice the daily bag limit.

Canada Geese

Season Dates: Open October 27, 2007, through February 10, 2008.

Daily Bag and Possession Limits: Three and six, respectively.

White-fronted Geese

Season Dates: Open October 13, 2007, through December 23, 2007.

Daily Bag and Possession Limits: One and two, respectively.

Light Geese

Season Dates: Open October 13, 2007, through January 13, 2008, and open February 26, through March 10, 2008.

Daily Bag and Possession Limits: 20 and 40, respectively.

General: Hunters must observe all basic Federal migratory bird hunting regulations in 50 CFR part 20.

(n) Lower Elwha Klallam Tribe, Port Angeles, Washington (Tribal Members Only) Ducks.

Season Dates: Open September 22, through December 30, 2007.

Daily Bag and Possession Limits: Seven ducks, including no more than two hen mallards, one pintail, one canvasback, one harlequin, and two redheads. Possession limit is twice the daily bag limit.

Geese

Season Dates: Open September 22, through December 30, 2007.

Daily Bag and Possession Limits: Four geese, and may include no more than three light geese. The season on Aleutian Canada geese is closed. Possession limit is twice the daily bag limit.

Brant

Season Dates: Open November 1, 2007, through February 15, 2008.

Daily Bag and Possession Limits: Two and four, respectively.

Coots

Season Dates: Open September 22, through December 30, 2007.

Daily Bag and Possession Limits: 25 and 50 coots, respectively.

Mourning Doves

Season Dates: Open September 22, through December 30, 2007.

Daily Bag and Possession Limits: 10 and 20 doves, respectively.

Snipe

Season Dates: Open September 22, through December 30, 2007.

Daily Bag and Possession Limits: 8 and 16 snipe, respectively.

Band-tailed Pigeon

Season Dates: Open September 22, through December 30, 2007.

Daily Bag and Possession Limits: 2 and 4 pigeons, respectively.

General: Tribal members must possess a tribal hunting permit from the Lower Elwha Klallam Tribe pursuant to tribal law. Hunters must observe all basic Federal migratory bird hunting regulations in 50 CFR part 20.

(o) Makah Indian Tribe, Neah Bay, Washington (Tribal Members).

Band-tailed Pigeons

Season Dates: Open September 1, through October 31, 2007.

Daily Bag Limit: Two band-tailed pigeons.

Ducks and Coots

Season Dates: Open September 22, 2007, through January 20, 2008.

Daily Bag Limit: Seven ducks including no more than one redhead, one pintail, and one canvasback. The seasons on wood duck and harlequin are closed.

Geese

Season Dates: Open September 22, 2007, through January 20, 2008.

Daily Bag Limit: Four geese including no more than one brant. The seasons on Aleutian and dusky Canada geese are closed.

General

All other Federal regulations contained in 50 CFR part 20 would apply. The following restrictions are also imposed by the Tribe: (1) As per Makah Ordinance 44, only shotguns may be used to hunt any species of waterfowl. Additionally, shotguns must not be discharged within 0.25 miles of an occupied area (home, business, or recreational area) and may not be discharged in the direction of a road; (2) Hunters must be eligible, enrolled Makah tribal members and must carry their Indian Treaty Fishing and Hunting Identification Card while hunting. No tags or permits are required to hunt waterfowl; (3) The Cape Flattery area is open to waterfowl hunting, except in designated wilderness areas, or within 1 mile of Cape Flattery Trail, or in any area that is closed to hunting by another ordinance or regulation; (4) The use of live decoys and/or baiting to pursue any species of waterfowl is prohibited; (5) Only steel or bismuth shot for waterfowl is allowed; the use of lead shot is prohibited; (6) The use of dogs is permitted to hunt waterfowl.

(p) Navajo Indian Reservation, Window Rock, Arizona (Tribal Members and Nontribal Hunters).

Band-tailed Pigeons

Season Dates: Open September 1, through September 30, 2007.

Daily Bag and Possession Limits: 5 and 10 pigeons, respectively.

Mourning Doves

Season Dates: Open September 1, through September 30, 2007.

Daily Bag and Possession Limits: 10 and 20 doves, respectively.

Ducks (including mergansers)

Season Dates: Open September 22, 2007, through January 6, 2008.

Daily Bag and Possession Limits: Seven ducks, including no more than two hen mallards, one pintail, one canvasback, three scaup, and two redheads. The possession limit is twice the daily bag limit.

Coots and Common Moorhens

Season Dates: Same as ducks.

Daily Bag and Possession Limits: 25 coots and moorhens, singly or in the aggregate. The possession limit is twice the daily bag limit.

Canada Geese

Season Dates: Open September 22, 2007, through January 6, 2008.

Daily Bag and Possession Limits: Four and eight geese, respectively.

General Conditions: Tribal and nontribal hunters will comply with all basic Federal migratory bird hunting regulations in 50 CFR part 20, regarding shooting hours and manner of taking. In addition, each waterfowl hunter 16 years of age or over must carry on his/her person a valid Migratory Bird Hunting and Conservation Stamp (Duck Stamp) signed in ink across the face. Special regulations established by the Navajo Nation also apply on the reservation.

(q) Oneida Tribe of Indians of Wisconsin, Oneida, Wisconsin (Tribal Members Only). Ducks (including mergansers)

Season Dates: Open September 22, through November 16, 2007, and open November 26, through December 9, 2007.

Daily Bag and Possession Limits: Six, including no more than six mallards (three hen mallards), six wood ducks, one redhead, two pintail, and one hooded merganser. The possession limit is twice the daily bag limit.

Geese

Season Dates: Open September 1, through November 16 and open November 26, through December 30, 2007.

Daily Bag and Possession Limits: Three and six Canada geese, respectively. Hunters will be issued three tribal tags for geese in order to monitor goose harvest. An additional three tags will be issued each time birds are registered. A seasonal quota of 150 birds is adopted. If the quota is reached before the season concludes, the season will be closed at that time.

Woodcock

Season Dates: Open September 8, through November 11, 2007.

Daily Bag and Possession Limits: 5 and 10 woodcock, respectively.

Dove

Season Dates: Open September 1, through November 11, 2007.

Daily Bag and Possession Limits: 10 and 20 doves, respectively.

General Conditions: Tribal member shooting hours are one-half hour before sunrise to one-half hour after sunset. Nontribal members hunting on the Reservation or on lands under the jurisdiction of the Tribe must comply with all State of Wisconsin regulations, including season dates, shooting hours, and bag limits which differ from tribal member seasons. Tribal members and nontribal members hunting on the Reservation or on lands under the jurisdiction of the Tribe will observe all basic Federal migratory bird hunting regulations found in 50 CFR part 20, with the following exceptions: tribal members are exempt from the purchase of the Migratory Waterfowl Hunting and Conservation Stamp (Duck Stamp); and shotgun capacity is not limited to three shells.

(r) Shoshone-Bannock Tribes, Fort Hall Indian Reservation, Fort Hall, Idaho (Nontribal Hunters).

Ducks

Season Dates: Open October 7, 2007, through January 19, 2008.

Daily Bag and Possession Limits: Seven ducks, including no more than two hen mallards, one pintail, two canvasback, three scaup, and two redheads. The possession limit is twice the daily bag limit.

Mergansers

Season Dates: Same as ducks.

Daily Bag and Possession Limits: 7 and 14 mergansers, respectively.

Coots

Season Dates: Same as ducks.

Daily Bag and Possession Limits: 25 coots. The possession limit is twice the daily bag limit.

Geese

Season Dates: Open October 7, 2007, through January 19, 2008.

Daily Bag and Possession Limits: Four light geese and four dark geese. The possession limit is twice the daily bag limit.

Common Snipe

Season Dates: Same as ducks.

Daily Bag and Possession Limits: 8 and 16 snipe, respectively.

General Conditions: Nontribal hunters must comply with all basic Federal migratory bird hunting regulations in 50 CFR part 20 regarding shooting hours and manner of taking. In addition, each waterfowl hunter 16 years of age or older must possess a valid Migratory Bird Hunting and Conservation Stamp (Duck Stamp) signed in ink across the stamp face. Other regulations established by the Shoshone-Bannock Tribes also apply on the reservation.

(s) Skokomish Tribe, Shelton, Washington (Tribal Members Only).Ducks and Mergansers

Season Dates: Open September 16, through December 31, 2007.

Daily Bag and Possession Limits: Seven ducks, including no more than two hen mallards, one pintail, one canvasback, one harlequin, and two redheads. Possession limit is twice the daily bag limit.

Geese

Season Dates: Open September 16, through December 31, 2007.

Daily Bag and Possession Limits: Four geese, and may include no more than three light geese. The season on Aleutian Canada geese is closed. Possession limit is twice the daily bag limit.

Brant

Season Dates: Open November 1, 2007, through February 15, 2008.

Daily Bag and Possession Limits: Two brant. Possession limit is twice the daily bag limit.

Coots

Season Dates: Open September 16, through December 31, 2007.

Daily Bag and Possession Limits: 25 and 50 coots, respectively.

Mourning Doves

Season Dates: Open September 16, through December 31, 2007.

Daily Bag and Possession Limits: 10 and 20 doves, respectively.

Snipe

Season Dates: Open September 16, through December 31, 2007.

Daily Bag and Possession Limits: 8 and 16 snipe, respectively.

Band-tailed Pigeon

Season Dates: Open September 16, through December 31, 2007.

Daily Bag and Possession Limits: 2 and 4 pigeons, respectively.

General Conditions: All hunters authorized to hunt migratory birds on the reservation must obtain a tribal hunting permit from the respective Tribe. Hunters are also required to adhere to a number of special regulations available at the tribal office. Hunters must observe all basic Federal migratory bird hunting regulations in 50 CFR part 20, such as shooting hours and manner of take.

(t) Squaxin Island Tribe, Squaxin Island Reservation, Shelton, Washington (Tribal Members Only).

Ducks

Season Dates: Open September 1, 2007, through January 15, 2008.

Daily Bag and Possession Limits: Five ducks, which may include only one canvasback. The season on harlequin ducks is closed. Possession limit is twice the daily bag limit.

Geese

Season Dates: Open September 15, 2007, through January 15, 2008.

Daily Bag and Possession Limits: Four geese, and may include no more than two snow geese. The season on Aleutian and cackling Canada geese is closed. Possession limit is twice the daily bag limit.

Brant

Season Dates: Open September 1, through December 31, 2007.

Daily Bag and Possession Limits: Two and four brant, respectively.

Coots

Season Dates: Open September 1, 2007, through January 15, 2008.

Daily Bag Limits: 25 coots.

Snipe

Season Dates: Open September 15, 2007, and through January 15, 2008.

Daily Bag and Possession Limits: 8 and 16 snipe, respectively.

Band-tailed Pigeons

Season Dates: Open September 1, through December 31, 2007.

Daily Bag and Possession Limits: 5 and 10 pigeons, respectively.

General Conditions: All tribal hunters must obtain a Tribal Hunting Tag and Permit from the Tribe's Natural Resources Department and must have the permit, along with the member's treaty enrollment card, on his or her person while hunting. Shooting hours are one-half hour before sunrise to one-half hour after sunset, and steel shot is required for all migratory bird hunting. Other special regulations are available at the tribal office in Shelton, Washington.

(u) Stillaguamish Tribe of Indians, Arlington, Washington (Tribal Members Only).

Ducks (including mergansers)

Season Dates: Open October 1, 2007, through February 15, 2008.

Daily Bag and Possession Limits: 10 ducks, including no more than 7 mallards of which only 3 may be hen mallards, 3 pintail, 3 canvasback, 3 scaup, and 3 redheads. The possession limit is twice the daily bag limit.

Coot

Season Dates: October 1, 2007, through January 31, 2008.

Daily Bag and Possession Limits: 25 and 50, respectively.

Geese

Season Dates: Same as ducks.

Daily Bag and Possession Limits: Six and twelve, respectively.

Brant

Season Dates: Open October 1, 2007, through January 31, 2008.

Daily Bag and Possession Limits: Three and six, respectively.

Snipe

Season Dates: Open October 1, 2007, through January 31, 2008.

Daily Bag and Possession Limits: 10 and 20, respectively.

Tribal members hunting on lands will observe all basic Federal migratory bird hunting regulations found in 50 CFR part 20, which will be enforced by the Stillaguamish Tribal Law Enforcement. Tribal members are required to use steel shot or a nontoxic shot as required by Federal regulations.

(v) Swinomish Indian Tribal Community, LaConner, Washington (Tribal Members Only).

Off Reservation

Ducks (including mergansers)

Season Dates: Open September 27, 2007, through February 25, 2008.

Daily Bag and Possession Limits: 10 ducks, including no more than 5 hen mallards, 4 pintail, 7 scaup, and 5 redheads. The season on canvasbacks is closed. The possession limit is twice the daily bag limit.

Coots

Season Dates: Same as ducks.

Daily Bag and Possession Limits: 25 coots.

Geese

Season Dates: Same as ducks.

Daily Bag and Possession Limits: Seven geese, including seven dark geese but no more than six light geese. The possession limit is twice the daily bag limit.

Brant

Season Dates: Same as ducks.

Daily Bag and Possession Limits: 5 and 10 brant, respectively.

On Reservation

Ducks (including mergansers)

Season Dates: Open September 27, 2007, through March 9, 2008.

Daily Bag and Possession Limits: 10 ducks, including no more than 5 hen mallards, 4 pintail, 7 scaup, and 5 redheads. The season on canvasbacks is closed. The possession limit is twice the daily bag limit.

Coots

Season Dates: Same as ducks.

Daily Bag and Possession Limits: 25 coots.

Geese

Season Dates: Same as ducks.

Daily Bag and Possession Limits: Seven geese, including seven dark geese but no more than six light geese. The possession limit is twice the daily bag limit.

Brant

Season Dates: Same as ducks.

Daily Bag and Possession Limits: 5 and 10 brant, respectively.

General Conditions: Steps will be taken to limit level of harvest, where it could be shown that failure to limit such harvest would seriously impact the migratory bird resource. Tribal members hunting on lands will observe all basic Federal migratory bird hunting regulations found in 50 CFR part 20, which will be enforced by the Swinomish Tribal Fish and Game.

(w) Tulalip Tribes of Washington, Tulalip Indian Reservation, Marysville, Washington (Tribal Members and Nontribal Hunters).

Tribal Members

Ducks (Including Coots and Mergansers)

Season Dates: Open September 15, 2007, and through February 29, 2008.

Daily Bag and Possession Limits: 7 and 14 ducks, respectively, except that bag and possession limits may include no more than 2 female mallards, 1 pintail, 3 scaup, 2 canvasback, and 2 redheads.

Geese

Season Dates: Open September 15, 2007, and through February 29, 2008.

Daily Bag and Possession Limits: 7 and 14 geese, respectively; except that the bag limits may not include more than 2 brant and 1 cackling Canada goose. For those tribal members who engage in subsistence hunting, the Tribes set a maximum annual bag limit of 365 ducks and 365 geese.

Snipe

Season Dates: Open September 15, 2007, through February 29, 2008.

Daily Bag and Possession Limits: 8 and 16, respectively.

Nontribal Hunters

Ducks

Season Dates: Open October 13, 2007, through January 27, 2008.

Daily Bag and Possession Limits: Seven ducks, including no more than two hen mallards, one pintail, three scaup, two canvasback, and two redheads. The possession limit is twice the daily bag limit.

Coots

Season Dates: Same as ducks.

Daily Bag and Possession Limits: 25 and 50, respectively

Geese

Season Dates: Open October 13, 2007, through January 27, 2008.

Daily Bag and Possession Limits: Four dark geese, including no more than two cackling Canada geese, and four light geese. The possession limit is twice the daily bag limit.

Brant

Season Dates: Open January 12, through January 27, 2008.

Daily Bag and Possession Limits: Two and four brant, respectively.

Snipe

Season Dates: Open November 14, 2007, through February 28, 2008.

Daily Bag and Possession Limits: 8 and 16, respectively.

General Conditions: All hunters on Tulalip Tribal lands are required to adhere to shooting hour regulations set at one-half hour before sunrise to sunset, special tribal permit requirements, and a number of other tribal regulations enforced by the Tribe. Nontribal hunters 16 years of age and older, hunting pursuant to Tulalip Tribes' Ordinance No. 67, must possess a valid Federal Migratory Bird Hunting and Conservation Stamp and a valid State of Washington Migratory Waterfowl Stamp. Both stamps must be validated by signing across the face of the stamp. Other tribal regulations apply, and may be obtained at the tribal office in Marysville, Washington.

(x) Upper Skagit Indian Tribe, Sedro Woolley, Washington (Tribal Members Only).

Mourning Dove

Season Dates: Open September 1, through December 31, 2007.

Daily Bag and Possession Limits: 12 and 15 mourning doves, respectively.

Ducks

Season Dates: Open October 1, 2007, through February 15, 2008.

Daily Bag and Possession Limits: 15 and 20, respectively.

Coots

Season Dates: Open October 1, 2007, through February 15, 2008.

Daily Bag and Possession Limits: 20 and 30, respectively.

Geese

Season Dates: Open October 1, 2007, through February 15, 2008.

Daily Bag and Possession Limits: The daily bag limits are seven geese and five brant. The possession limits for geese and brant are 10 and 7, respectively.

Tribal members must have the tribal identification and harvest report card on their person to hunt. Tribal members hunting on the Reservation will observe all basic Federal migratory bird hunting regulations found in 50 CFR part 20, except shooting hours would be 15 minutes before official sunrise to 15 minutes after official sunset.

(y) Wampanoag Tribe of Gay Head, Aquinnah, Massachusetts (Tribal Members Only).

Teal

Season Dates: Open October 15, 2007, through January 28, 2008.

Daily Bag Limit: Six teal.

Ducks

Season Dates: Open October 31, 2007, through February 27, 2008.

Daily Bag Limit: Six ducks, including no more than two hen mallards, two black ducks, two mottled ducks, two wood ducks, one fulvous whistling duck, four mergansers, three scaup, one hooded merganser, two wood ducks, one canvasback, two redheads, and one pintail. The season is closed for harlequin ducks.

Sea Ducks

Season Dates: Open October 15, 2007, through February 29, 2008.

Daily Bag Limit: Seven ducks including no more than four of any one species (only one of which may be a hen eider).

Canada Geese

Season Dates: Open September 10, and through September 24, and open October 31, through February 27, 2008.

Daily Bag Limits: 5 Canada geese during the first period, 3 during the second.

Snow Geese

Season Dates: Open September 10, 2007, and through September 24, 2007.

Daily Bag Limits: 15 snow geese.

Woodcock

Season Dates: Open October 15, through November 30, 2007.

Daily Bag Limit: Three woodcock.

General Conditions: Shooting hours are one-half hour before sunrise to sunset. Nontoxic shot is required. All basic Federal migratory bird hunting regulations contained in 50 CFR part 20 will be observed.

(z) White Earth Band of Ojibwe, White Earth, Minnesota (Tribal Members Only).

Ducks and Mergansers

Season Dates: Open September 15, through December 16, 2007.

Daily Bag Limit for Ducks: 10 ducks, including no more than 2 mallards and 1 canvasback.

Daily Bag Limit for Mergansers: Five mergansers, including no more than two hooded mergansers.

Geese

Season Dates: Open September 1, through September 28, 2007, and open September 29, through December 16, 2007.

Daily Bag Limit: Eight geese through September 28 and five thereafter.

Coots

Season Dates: Open September 1, through November 30, 2007.

Daily Bag Limit: 20 coots.

Sora and Virginia Rails

Season Dates: Open September 1, through November 30, 2007.

Daily Bag Limit: 25 sora and Virginia rails, singly or in the aggregate.

Common Snipe and Woodcock

Season Dates: Open September 1, through November 30, 2007.

Daily Bag Limit: 10 snipe and 10 woodcock.

Mourning Dove

Season Dates: Open September 1, through November 30, 2007.

Daily Bag Limit: 25 doves.

General Conditions: Shooting hours are one-half hour before sunrise to one-half hour after sunset. Nontoxic shot is required.

(aa) White Mountain Apache Tribe, Fort Apache Indian Reservation, Whiteriver, Arizona (Tribal Members and Nontribal Hunters).

Band-tailed Pigeons (Wildlife Management Unit 10 and areas south of Y-70 and Y-10 in Wildlife Management Unit 7, only)

Season Dates: Open September 1, through September 15, 2007.

Daily Bag and Possession Limits: Three and six pigeons, respectively.

Mourning Doves (Wildlife Management Unit 10 and areas south of Y-70 and Y-10 in Wildlife Management Unit 7, only)

Season Dates: Open September 1, through September 15, 2007.

Daily Bag and Possession Limits: 10 and 20 doves, respectively.

Ducks (Including Mergansers): Open October 13, 2007, through January 27, 2008.

Daily Bag and Possession Limits: Seven ducks, including no more than three mallards (including no more than two hen mallard), two redheads, three scaup, two canvasback, and one pintail. The possession limit is twice the daily bag limit.

Coots, Moorhens and Gallinules

Season Dates: Same as ducks.

Daily Bag and Possession Limits: 25 coots, moorhens, and gallinules, singly or in the aggregate.

The possession limit is twice the daily bag limit.

Canada Geese

Season Dates: Open October 13, 2007, through January 27, 2008.

Bag and Possession Limits: Three and six, respectively.

General Conditions: All nontribal hunters hunting band-tailed pigeons and mourning doves on Reservation lands shall have in their possession a valid White Mountain Apache Daily or Yearly Small Game Permit. In addition to a small game permit, all nontribal hunters hunting band-tailed pigeons must have in their possession a White Mountain Special Band-tailed Pigeon Permit. Other special regulations established by the White Mountain Apache Tribe apply on the reservation. Tribal and nontribal hunters will comply with all basic Federal migratory bird hunting regulations in 50 CFR part 20 regarding shooting hours and manner of taking.

(bb) Yankton Sioux Tribe, Marty, South Dakota (Tribal Members and Nontribal Hunters).

Ducks (including Mergansers): Open October 9, through December 21, 2008.

Daily Bag and Possession Limits: Five ducks, including no more than five mallards (no more than one hen mallard), two redheads, one mottled duck, one canvasback, one pintail, two scaup, and two wood ducks. The daily bag limit for mergansers is five, of which no more than two can be a hooded merganser. The possession limit is twice the daily bag limit.

Coots

Season Dates: Same as other ducks.

Daily Bag and Possession Limits: 15 and 30 coots, respectively.

Canada Geese and Brant

Season Dates: Open October 29, 2007, through February 11, 2008.

Daily Bag and Possession Limits: Three geese. The possession limit is twice the daily bag limit.

White-fronted Geese

Season Dates: October 29, 2007, through January 22, 2008.

Daily Bag and Possession Limits: One. The possession limit is twice the daily bag limit.

Light Geese

Season Dates: Open October 29, 2007, through January 19, 2008.

Daily Bag and Possession Limits: 20 geese daily, no possession limit.

General Conditions:

(1) The waterfowl hunting regulations established by this final rule apply to tribal and trust lands within the external boundaries of the reservation.

(2) Tribal and nontribal hunters must comply with all basic Federal migratory bird hunting regulations in 50 CFR part 20 regarding shooting hours and manner of taking. In addition, each waterfowl hunter 16 years of age or older must carry on his/her person a valid Migratory Bird Hunting and Conservation Stamp (Duck Stamp) signed in ink across the stamp face. Special regulations established by the Yankton Sioux Tribe also apply on the reservation.

Dated: October 2, 2007.
David M. Verhey,
Acting Assistant Secretary for Fish and Wildlife and Parks.

[FR Doc. E7-20240 Filed 10-12-07; 8:45 am]

BILLING CODE 4310-55-P